DEPARTMENT OF HOMELAND SECURITY

U.S. Customs and Border Protection

Delay of Transition of the Generating, Transmitting and Updating of Daily and Monthly Statements from the Automated Commercial System to the Automated Commercial Environment

AGENCY: U.S. Customs and Border Protection, Department of Homeland Security.

ACTION: Delay of transition of statement processing.

SUMMARY: On November 8, 2017, U.S. Customs and Border Protection (CBP) published a notice in the Federal Register announcing plans to make the Automated Commercial Environment (ACE) the sole electronic data interchange (EDI) system authorized by CBP for generating, transmitting, and updating daily and monthly statements for all entries except reconciliation (type 09) entries. The changes announced in that notice were to become operational on December 9, 2017. This notice announces that the date for the transition to ACE as the sole CBP-authorized EDI system for statement processing is delayed until January 6, 2018. ACE will not be the official system of records for statements until that time.

DATES: As of January 6, 2018, ACE will be the sole CBP-authorized EDI system for generating, transmitting, and updating daily and monthly statements, and the Automated Commercial System (ACS) will no longer be a CBP-authorized EDI system for such purpose.

FOR FURTHER INFORMATION CONTACT: For policy-related questions, contact Randy Mitchell, Commercial Operations, Revenue and Entry, Trade Policy and Programs, Office of Trade, via email at otentrysummary@cbp.dhs.gov, or telephone at (202) 863-6532. For technical questions, contact Celestine Harrell, Revenue Modernization Branch, Trade Transformation Office, Office of Trade, via email at Celestine.Harrell@cbp.dhs.gov, or telephone at (202) 325-0101, with a subject line identifier reading “Statement Processing in ACE”.

SUPPLEMENTARY INFORMATION: On November 8, 2017, U.S. Customs and Border Protection (CBP) published a notice in the Federal Register (82 FR 51852) announcing plans to make the Automated Commercial Environment (ACE) the sole electronic data interchange (EDI) system authorized by CBP for generating, transmitting, and updating daily and monthly statements for all entries except reconciliation (type 09) entries as of December 8, 2017. The document also announced that, beginning on December 8, 2017, the Automated Commercial System (ACS) would no longer be a CBP-authorized EDI system for such purposes.

This notice announces that beginning January 6, 2018, ACE will become the sole CBP-authorized EDI system for processing daily and monthly statements, and ACS will no longer be a CBP-authorized EDI system for such purpose.

Dated: December 5, 2017.
Cynthia F. Whittenburg,
Deputy Executive Assistant Commissioner, Office of Trade.

[FR Doc. 2017-26481 Filed 12-7-17; 8:45 am]

BILLING CODE 9111-14-P